DEPARTMENT OF AGRICULTURE

Rural Housing Service

7 CFR Part 3550

RIN 0575-AC88

Single Family Housing Direct Loan Program

AGENCY: Rural Housing Service, USDA.

ACTION: Proposed rule and information collection; extension of public comment period.

SUMMARY: Through this action, the Rural Housing Service (RHS) is extending the comment period for the proposed rule, “Single Family Housing Direct Loan Program” from October 22, 2013 to November 22, 2013.

DATES: Comments on the proposed rule and the information collection under the Paperwork Reduction Act of 1995 must be received on or before November 22, 2013.

ADDRESSES: You may submit comments to this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue SW., Washington, DC 20250-0742.

• Hand Delivery/Courier: Submit written comments via Federal Express Mail or another mail courier service requiring a street address to the Branch Chief, Regulations and Paperwork Management Branch, U.S. Department of Agriculture, 300 7th Street SW., 7th Floor, Suite 701, Washington, DC 20024.

All written comments will be available for public inspection during regular work hours at the 300 7th Street SW., address listed above.

FOR FURTHER INFORMATION CONTACT: Brooke Baumann, Finance and Loan Analyst, Single Family Housing Direct Loan Division, USDA Rural Development, Stop 0783, 1400 Independence Avenue SW., Washington, DC 20250-0783, Telephone: 202-690-4250. Email: brooke.baumann@wdc.usda.gov.

SUPPLEMENTARY INFORMATION: On August 23, 2013, Rural Development published a proposed rule in the Federal Register (78 FR 52460), “Single Family Housing Direct Loan Program.”

In the proposed rule, RHS is proposing to amend its regulations for the section 502 direct single family housing loan program to create a certified loan application packaging process for eligible loan application packagers. Loan application packagers, who are separate and independent from the Agency, provide an optional service to parties seeking mortgage loans by helping them navigate the loan application process. Currently, packagers assisting parties applying for section 502 direct loans do so under an informal arrangement, which is free from Agency oversight or minimum competency standards. This proposed rule will impose experience, training, proficiency, and structure requirements on eligible service providers. This proposed rule also regulates the packaging fee that will be allowed under this process.

By establishing a vast network of competent, experienced, and committed Agency-certified packagers, this action is intended to benefit low- and very low-income people who wish to achieve homeownership in rural areas by increasing their awareness of the Agency's housing program, increasing specialized support available to them to complete the application for assistance, and improving the quality of loan application packages submitted on their behalf.

Due to the lapse in federal funding that caused a partial closing of federal government operations from October 1 through October 16, 2013, RHS is extending the public comment period for its proposed rule to create a certified loan application packaging process, originally published on August 23, 2013, in 78 FR 52460, to November 22, 2013.

USDA Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: October 25, 2013.
Richard A. Davis,
Acting Administrator, Rural Housing Service.

[FR Doc. 2013-26124 Filed 10-31-13; 8:45 am]

BILLING CODE 3410-XV-P